DEPARTMENT OF ENERGY

Federal Energy Regulatory Commission

Combined Notice of Filings #1

Take notice that the Commission received the following electric corporate filings:

Docket Numbers: EC13-64-000

Applicants: Orange and Rockland Utilities, Inc.

Description: Application of Orange and Rockland Utilities, Inc. for an order pursuant to Section 203 of the Federal Power Act.

Filed Date: 1/18/13

Accession Number: 20130118-5306

Comments Due: 5 p.m. ET 2/8/13

Docket Numbers: EC13-65-000

Applicants: NGP Blue Mountain I LLC

Description: Application for Authorization for Disposition of Jurisdictional Facilities and Request for Expedited Treatment of NGP Blue Mountain I LLC.

Filed Date: 1/18/13

Accession Number: 20130118-5310

Comments Due: 5 p.m. ET 2/8/13

Take notice that the Commission received the following electric rate filings:

Docket Numbers: ER10-2984-008

Applicants: Merrill Lynch Commodities, Inc.

Description: Notice of Non-Material Change in Status of Merrill Lynch Commodities, Inc.

Filed Date: 1/18/13

Accession Number: 20130118-5305

Comments Due: 5 p.m. ET 2/8/13

Docket Numbers: ER10-3117-002; ER10-3115-001

Applicants: Lea Power Partners, LLC, Waterside Power, LLC

Description: Notice of change in status of Lea Power Partners, LLC, et al.

Filed Date: 1/18/13

Accession Number: 20130118-5260

Comments Due: 5 p.m. ET 2/8/13

Docket Numbers: ER11-4105-001

Applicants: Southwest Power Pool, Inc.

Description: Southwest Power Pool, Inc. submits response to the December 13, 2012 deficiency letter.

Filed Date: 1/18/13

Accession Number: 20130118-5270

Comments Due: 5 p.m. ET 2/8/13

Docket Numbers: ER12-2536-002

Applicants: Frontier El Dorado Refining LLC

Description: Notice of Non-Material Change in Status of Frontier El Dorado Refining LLC.

Filed Date: 1/18/13

Accession Number: 20130118-5224

Comments Due: 5 p.m. ET 2/8/13

Docket Numbers: ER12-2542-001

Applicants: Prairie Rose Wind, LLC

Description: Notice of Change in Status of Prairie Rose Wind, LLC.

Filed Date: 1/18/13

Accession Number: 20130118-5217

Comments Due: 5 p.m. ET 2/8/13

Docket Numbers: ER12-480-005

Applicants: Midwest Independent Transmission System Operator, Inc.

Description: Midwest Independent Transmission System Operator, Inc. submits tariff filing per 35: 01-18-13 Attachment FF-6 Errata Compliance to be effective 6/1/2013.

Filed Date: 1/18/13

Accession Number: 20130118-5176

Comments Due: 5 p.m. ET 2/8/13

Docket Numbers: ER13-351-001

Applicants: AES Huntington Beach, L.L.C.

Description: AES Huntington Beach, L.L.C. submits tariff filing per 35: Compliance Filing Under Docket ER13-351 to be effective 1/9/2013.

Filed Date: 1/18/13

Accession Number: 20130118-5166

Comments Due: 5 p.m. ET 2/8/13

Docket Numbers: ER13-522-001

Applicants: Northern Indiana Public Service Company

Description: Amendment of CIAC Agreement Filing to be effective 12/7/2012.

Filed Date: 1/18/13

Accession Number: 20130118-5003

Comments Due: 5 p.m. ET 2/8/13

Docket Numbers: ER13-538-001

Applicants: Consumers Energy Company

Description: Consumers Energy Company submits tariff filing per 35.17(b): Consumers Energy Company—MBR to be effective 12/11/2012.

Filed Date: 1/18/13

Accession Number: 20130118-5180

Comments Due: 5 p.m. ET 2/8/13

Docket Numbers: ER13-578-001

Applicants: Genesee Power Station Limited Partnership

Description: Genesee Power Station Limited Partnership submits tariff filing per 35.17(b): Genesee Power Station—MBR to be effective 12/19/2012.

Filed Date: 1/18/13

Accession Number: 20130118-5223

Comments Due: 5 p.m. ET 2/8/13

Docket Numbers: ER13-579-001

Applicants: Grayling Generation Station Limited Partnership

Description: Grayling Generation Station Limited Partnership submits tariff filing per 35.17(b): Grayling Generating Station—MBR to be effective 12/20/2012.

Filed Date: 1/18/13

Accession Number: 20130118-5242

Comments Due: 5 p.m. ET 2/8/13

Docket Numbers: ER13-580-001

Applicants: Dearborn Industrial Generation, L.L.C.

Description: Dearborn Industrial Generation, L.L.C. submits tariff filing per 35.17(b): Dearborn Industrial Gen—MBR to be effective 12/20/2012.

Filed Date: 1/18/13

Accession Number: 20130118-5212

Comments Due: 5 p.m. ET 2/8/13

Docket Numbers: ER13-581-001

Applicants: CMS Generation Michigan Power, LLC

Description: CMS Generation Michigan Power, LLC submits tariff filing per 35.17(b): CMS Generation Michigan Power—MBR to be effective 12/20/2012.

Filed Date: 1/18/13

Accession Number: 20130118-5171

Comments Due: 5 p.m. ET 2/8/13

Docket Numbers: ER13-610-001

Applicants: Northern Indiana Public Service Company

Description: Amendment to Pending CIAC Agreement Filing to be effective 12/22/2012.

Filed Date: 1/18/13

Accession Number: 20130118-5005

Comments Due: 5 p.m. ET 2/8/13

Docket Numbers: ER13-777-000

Applicants: PJM Interconnection, L.L.C.

Description: Queue Nos. N15, P10, and P10/Y2-043; 1st Rev. Svc Agreement Nos. 2199, et al to be effective 12/18/2012.

Filed Date: 1/18/13

Accession Number: 20130118-5008

Comments Due: 5 p.m. ET 2/8/13

Docket Numbers: ER13-778-000

Applicants: Midwest Independent Transmission System Operator, Inc.

Description: SA 2503 GRE-OTP Hudson 115kV TLIA to be effective 1/19/2013.

Filed Date: 1/18/13

Accession Number: 20130118-5072

Comments Due: 5 p.m. ET 2/8/13

Docket Numbers: ER13-779-000

Applicants: SmartEnergy Holdings, LLC

Description: SmartEnergy Holdings, LLC submits tariff filing per 35.12: SmartEnergy Holdings Market Based Rate Tariff to be effective 2/11/2013.

Filed Date: 1/18/13

Accession Number: 20130118-5249

Comments Due: 5 p.m. ET 2/8/13

Docket Numbers: ER13-780-000

Applicants: New York Independent System Operator, Inc.

Description: New York Independent System Operator, Inc. submits tariff filing per 35: NYISO tariff filing to set forth proposed interface pricing rules to be effective 3/30/2013.

Filed Date: 1/18/13

Accession Number: 20130118-5255

Comments Due: 5 p.m. ET 2/8/13

Docket Numbers: ER13-781-000

Applicants: NorthWestern Corporation

Description: NorthWestern Corporation submits tariff filing per 35.13(a)(2)(iii: SA 654—MDT Gallatin Canyon Turning Lanes to be effective 1/19/2013.

Filed Date: 1/18/13

Accession Number: 20130118-5257

Comments Due: 5 p.m. ET 2/8/13

Docket Numbers: ER13-782-000

Applicants: ITC Arkansas LLC, ITC Texas LLC, ITC Louisiana LLC, ITC Mississippi LLC

Description: Application of ITC Arkansas LLC, et. al., under FPA Section 205 for approval for the accounting and ratemaking treatment for certain pension and post-retirement welfare plan costs.

Filed Date: 1/18/13

Accession Number: 20130118-5303

Comments Due: 5 p.m. ET 2/8/13

Take notice that the Commission received the following electric securities filings:

Docket Numbers: ES13-15-000

Applicants: Rockland Electric Company

Description: Application of Rockland Electric Company for an order pursuant to Section 204 of the Federal Power Act under ES13-15.

Filed Date: 1/18/13

Accession Number: 20130118-5307

Comments Due: 5 p.m. ET 2/8/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2013.
Nathaniel J. Davis, Sr.,
Deputy Secretary.

[FR Doc. 2013-02653 Filed 2-5-13; 8:45 am]

BILLING CODE 6717-01-P